DEPARTMENT OF HOUSING AND URBAN DEVELOPMENT

[Docket No. FR-4932-C-02]

Notice of Funding Availability (NOFA) for Fiscal Year (FY) 2004 Rural Housing and Economic Development Program: Technical Correction Regarding Questionnaire on Removal of Regulatory Barriers

AGENCY: Office of the General Counsel, HUD.

ACTION: NOFA; technical correction.

SUMMARY: On April 23, 2004, HUD published its NOFA for the FY2004 Rural Housing and Economic Development (RHED) Program. The NOFA included HUD's Questionnaire for HUD's Initiative on Removal of Regulatory Barriers (Form HUD 27300). On April 21, 2004, HUD published a technical correction to this Questionnaire, and the revised Questionnaire was inadvertently omitted with the publication of the RHED NOFA. This notice advises of the substitution of the revised Questionnaire with the one published on April 23, 2004. No other changes are made to the RHED NOFA published on April 23, 2004.

FOR FURTHER INFORMATION CONTACT: For information concerning the HUD Rural Housing and Economic Development program, contact Ms. Holly A. Kelly, Economic Development Program Specialist, or Ms. Linda L. Streets, Community Development Specialist, Office of Rural Housing and Economic Development, Office of Community Planning and Development, Department of Housing and Urban Development, 451 Seventh Street, SW., Room 7137, Washington, DC 20410-7000; telephone 202-708-2290 (this is not a toll-free number). Persons with speech or hearing impairments may access this number via TTY by calling the toll-free Federal Information Relay Service at 800-877-8339.

SUPPLEMENTARY INFORMATION: On April 23, 2004 (69 FR 22320), HUD published its NOFA for the FY2004 Rural Housing and Economic Development (RHED) Program. The NOFA included HUD's Questionnaire for HUD's Initiative on Removal of Regulatory Barriers (Form HUD 27300) (Questionnaire). (See 69 FR at 22372 through 22376). On April 21, 2004 (69 FR 21664), HUD published a technical correction to this Questionnaire. The revised Questionnaire was inadvertently omitted with the publication of the RHED NOFA. This notice advises of the substitution of the revised Questionnaire with the one published on April 23, 2004. A copy of the correct form is included with this notice published in today's Federal Register, and the form is also available on HUD's Web site at http://www.hud.gov/grants/index.cfm.

No other changes are made to the RHED NOFA published on April 23, 2004.

Dated: April 28, 2004.
Aaron Santa Anna,
Assistant General Counsel for Regulations.

BILLING CODE 4610-67-P

[FR Doc. 04-10107 Filed 5-3-04; 8:45 am]

BILLING CODE 4210-67-C